CONSUMER PRODUCT SAFETY COMMISSION

Petition Requesting Rule Declaring Natural Rubber Latex a Strong Sensitizer

AGENCY: Consumer Product Safety Commission.

ACTION: Notice.

SUMMARY: The Commission has received a petition from Debi Adkins, editor of Latex Allergy News, requesting that the Commission issue a rule declaring that natural rubber latex (“NRL”) and products containing NRL are strong sensitizers under the Federal Hazardous Substances Act (“FHSA”). The Commission solicits written comments concerning the petition.

DATES: The Office of the Secretary should receive comments on the petition by May 22, 2000.

ADDRESSES: Comments, preferably in five copies, on the petition should be mailed to the Office of the Secretary, Consumer Product Safety Commission, Washington, DC 20207, telephone (301) 504-0800, or delivered to the Office of the Secretary, Room 502, 4330 East-West Highway, Bethesda, Maryland 20814. Comments may also be filed by telefacsimile to (301) 504-0127 or by email to cpsc-os@cpsc.gov. Comments should be captioned “Petition HP 00-2, Petition on Natural Rubber Latex.” A copy of the petition is available for inspection at the Commission's Public Reading Room, Room 419, 4330 East-West Highway, Bethesda, Maryland.

FOR FURTHER INFORMATION CONTACT: Rockelle Hammond, Office of the Secretary, Consumer Product Safety Commission, Washington, DC 20207; telephone (301) 504-0800, ext. 1232.

SUPPLEMENTARY INFORMATION: The Commission has received correspondence from Debi Adkins, editor of Latex Allergy News, that requests the Commission to declare that natural rubber latex (“NRL”) and products containing NRL are strong sensitizers under the Federal Hazardous Substances Act (“FHSA”). The petitioner asserts that a portion of the population has developed an allergy to NRL that can cause serious allergic reactions, even death. NRL may be in such consumer products as gloves, adhesives, shoes, balloons, pacifiers, and carpet backing, as well as many medical products. Ms. Adkins asks the Commission to add NRL and products containing NRL to its list of strong sensitizers so that these products would require labeling. The Commission is docketing the correspondence as a petition under provisions of the FHSA, 15 U.S.C. 1261-1277.

Interested parties may obtain a copy of the petition by writing or calling the Office of the Secretary, Consumer Product Safety Commission, Washington, DC 20207; telephone (301) 504-0800. A copy of the petition is also available for inspection from 8:30 a.m. to 5 p.m., Monday through Friday, in the Commission's Public Reading Room, Room 419, 4330 East-West Highway, Bethesda, Maryland.

Dated: March 15, 2000.
Sadye E. Dunn,
Secretary, Consumer Product Safety Commission.

[FR Doc. 00-6874 Filed 3-20-00; 8:45 am]

BILLING CODE 6355-01-P